DEPARTMENT OF HEALTH AND HUMAN SERVICES

Request for Co-Sponsors for the Office of Healthcare Quality's Programs To Strengthen Coordination and Impact of National Efforts in the Prevention of Healthcare-Associated Infections; Correction

AGENCY: Department of Health and Human Services, Office of the Secretary, Office of the Assistant Secretary for Health, Office of Healthcare Quality.

ACTION: Notice: Correction.

SUMMARY: The Department of Health and Human Services published a notice in the Federal Register on November 15, 2011 announcing a request for co-sponsors for the Office of Healthcare Quality's Program to Strengthen Coordination and Impact of National Efforts in the Prevention of Healthcare-Associated Infections. It was announced that the deadline for submission would be November 30, 2011. This deadline is being extended to allow interested applicants to submit their proposals.

FOR FURTHER INFORMATION CONTACT: Mr. Daniel B. Gallardo, Phone: (202) 690-2470 Fax: (202) 401-9547.

Correction

In the Federal Register of November 15, 2011, Vol. 76, No. 220, on page 70723, in the first column, correct the DATES caption to read:

Expressions of interest for FY 2011-12 must be received no later than close of business on December 9, 2011.

Dated: November 18, 2011.
Don Wright,
Deputy Assistant Secretary for Healthcare Quality, Office of Healthcare Quality, Office of the Assistant Secretary for Health, Office of the Secretary, U.S. Department of Health and Human Services.

[FR Doc. 2011-30287 Filed 11-22-11; 8:45 am]

BILLING CODE 4150-28-P